DEPARTMENT OF JUSTICE

Antitrust Division

Notice Pursuant to the National Cooperative Research and Production Act of 1993—3D PDF Consortium, Inc.

Notice is hereby given that, on March 27, 2012, pursuant to Section 6(a) of the National Cooperative Research and Production Act of 1993, 15 U.S.C. 4301 et seq. (“the Act”), 3D PDF Consortium, Inc. (“3D PDF”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are PROSTEP AG, Dolivostr, Darmstadt, GERMANY; Adobe Systems Incorporated, San Jose, CA; Anark Corporation, Boulder, CO; Aras Corporation, Andover, MA; Tetra 4D, LLC, Seattle, WA; Tech Soft 3D, Berkeley, CA; and EOS Solutions Corporation, Rochester, MI.

The general areas of 3D PDF's planned activity are (a) to demonstrate the value and promote the use of products complying with standards enabling three dimensional representation, such as 3D PDF, the PRC data format, and PDF/E 2.0 (“Specifications”); (b) to communicate information regarding the updating and the development of existing and additional Specifications beneficial to providers and consumers of three dimensional rendering solutions; and (c) to educate international standards committees and government bodies about the needs of developers and users of Specification-compliant products and services.

In support of these purposes, 3D PDF may engage in some or all of the following activities: (a) Host committees that develop materials in support of 3D PDF's mission; (b) operate a branding program based upon distinctive trademarks to create high customer awareness of, demand for, and confidence in products designed in compliance with Specifications; (c) create printed and electronic materials for distribution to members and non-members; (d) maintain its own Web site; (e) coordinate the promotion of Specifications among members and non-members, as well as create basic marketing promotional collateral (e.g., both web pages as well as tangible materials); (f) maintain relations with standard-setting organizations and industry consortia to promote coherence among Specifications; and (g) undertake such other activities as the Board of Directors may from time to time approve. 3D PDF is not engaged in and does not intend to engage in production activities.

Patricia A. Brink,
Director of Civil Enforcement, Antitrust Division.

[FR Doc. 2012-9521 Filed 4-19-12; 8:45 am]

BILLING CODE P